DEPARTMENT OF AGRICULTURE

Forest Service

Chloride Bush Project, Idaho Panhandle National Forest, Bonner County, ID

AGENCY: Forest Service, USDA.

ACTION: Cancellation notice.

SUMMARY: On October 23, 2003, a Notice of Intent (NOI) to prepare an Environmental Impact Statement (EIS) for the Chloride Bush Project on the Idaho Panhandle National Forests was published in the Federal Register (68 FR 60637-60638).

The NOI is canceled because the Idaho Panhandle National Forests no longer intend to proceed with this project.

FOR FURTHER INFORMATION CONTACT: Albert Helgenberg, Project Team Leader, Sandpoint Ranger District, 1500 Highway 2, Suite 110, Sandpoint, ID 83864, telephone: 208-265-6643.

Dated: December 19, 2005.
Ranotta McNair,
Forest Supervisor, Idaho Panhandle National Forests.

[FR Doc. 05-24516 Filed 12-27-05; 8:45 am]

BILLING CODE 3410-11-M